Title 3—

The President

Proclamation 9941 of October 3, 2019

National Manufacturing Day, 2019

By the President of the United States of America

A Proclamation

Manufacturing is a pillar of the American economy, and the hard work and ingenuity of America's manufacturers and manufacturing workers bolster the strength of our Nation. On National Manufacturing Day, we recognize the individuals who drive this vital sector of our economy, and we recommit to restoring the glory of our proud heritage as a Nation of industrious builders of world-class products.

Manufacturing spurs innovation and fuels economic growth, providing all Americans with opportunities to prosper and thrive. My Administration has worked tirelessly to promote increased opportunities for manufacturers and manufacturing workers after years of neglect. The Tax Cuts and Jobs Act, capital investment deductions, strong trade policies, and focused deregulations have all strengthened American businesses. Our policies and actions are delivering real results, with our economy having already added more than 512,000 manufacturing jobs since my election. In communities across our Nation, American workers and families are reaping the benefits of this industrial boom, with nominal average hourly earnings rising 3.2 percent over the past 12 months and the unemployment rate falling to a 50-year low.

Along with many great benefits, our flourishing job market also presents new challenges. With more than 7 million open jobs in July, ensuring workers have access to the equipment and skills training they need to secure and thrive in high-demand jobs is critical to our Nation's continued prosperity. To accomplish this, I have increased apprenticeship opportunities, including through the Task Force on Apprenticeship Expansion. Last year, I also established the President's National Council for the American Worker. The council supports and promotes education programs that provide workers with the technical knowledge needed in today's economy. American employers and manufacturers are rising to the challenge, and more than 350 organizations have signed our Pledge to America's Workers to provide more than 14 million employment and training opportunities for American workers.

I am also renegotiating one-sided trade deals to ensure that American workers and manufacturers compete on a level playing field with foreign competitors. In 2018, I signed the United States-Mexico-Canada Agreement (USMCA), delivering on the promise I made to the American people to renegotiate the outdated North American Free Trade Agreement (NAFTA). Once approved by the Congress, the USMCA will rebalance trade on our continent to once again benefit American producers, creating an estimated 50,000 jobs in the manufacturing sector alone. We have also amended the United States-Korea Free Trade Agreement (KORUS) to include key provisions that enable increased American exports and protect high-paying manufacturing jobs in our Nation's auto industry. And just this past month, we renegotiated how international postal rates are set in order to ensure fairness for small- and medium-size American manufacturing companies.

For too long, other nations have exploited the pioneering spirit of our country's entrepreneurs. My Administration is standing up to these bad actors around the world to protect American intellectual property, including innovative manufacturing techniques and new technology developed in the United States. In order to maintain our competitive edge in an increasingly global and technology-driven economy, we must protect the advancements and breakthroughs in industry that are vital to sustaining recent successes and accelerating growth. That is why we will continue working to put an end to intellectual property theft and other abusive practices through strong enforcement of our trade laws and efforts to strengthen our cyber infrastructure. We will never stop working to protect the American ingenuity that powers our robust economy and bolsters our national defense.

The American workforce and manufacturing industry are the best in the world, and my Administration refuses to allow them to be left behind. The unrivaled work ethic of our tenacious working men and women will always set the global standard for workmanship and resourcefulness. Today, we celebrate the renaissance in American manufacturing that is restoring our country's dominance in global and domestic markets, and we recommit to building on these achievements in the years to come.

NOW, THEREFORE, I, DONALD J. TRUMP, President of the United States of America, by virtue of the authority vested in me by the Constitution and the laws of the United States, do hereby proclaim October 4, 2019, as National Manufacturing Day. I call upon all Americans to celebrate the entrepreneurs, innovators, and workers in manufacturing who are making our communities strong.

IN WITNESS WHEREOF, I have hereunto set my hand this third day of October, in the year of our Lord two thousand nineteen, and of the Independence of the United States of America the two hundred and forty-fourth.

[FR Doc. 2019-22159

Filed 10-7-19; 11:15 am]

Billing code 3295-F0-P